DEPARTMENT OF TRANSPORTATION

Office of the Secretary

Notice of Applications for Certificates of Public Convenience and Necessity and Foreign Air Carrier Permits Filed Under Subpart B (Formerly Subpart Q) During the Week Ending January 18, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0005.

Date Filed: January 15, 2014.

Due Date for Answers, Conforming Applications, or Motion to Modify Scope: February 5, 2014.

Description: Application of Heron Luftfahrt GmbH & Co. KG requesting a foreign air carrier permit and exemption authority to operate charter flights with passengers and property to/from the United States.

Docket Number: DOT-OST-2014-0007.

Date Filed: January 16, 2014.

Due Date for Answers, Conforming Applications, or Motion to Modify Scope: February 6, 2014.

Description: Application of Lineas Aereas Suramericanas, S.A. (“LAS”) requesting a foreign air carrier permit and renewal of exemption authority authorizing LAS to operate the following services pursuant to the Open Skies Air Transport Agreement between the Governments of the United States of Colombia: (i) foreign air transportation of property and mail from points behind Colombia via Colombia and intermediate points to any point or points in the United States and beyond; and (ii) other charters.

Barbara J. Hairston,
Supervisory Dockets Officer Docket Operations, Federal Register Liaison.

[FR Doc. 2014-01696 Filed 1-28-14; 8:45 am]

BILLING CODE 4910-9X-P